DEPARTMENT OF DEFENSE

Department of the Navy

Notice of Deadline for Submission of Donation Application for the Harbor Tug Ex-HOGA (YTM 146)

AGENCY: Department of the Navy, DOD.

ACTION: Notice.

SUMMARY: The Department of the Navy hereby gives notice of the deadline of June 13, 2002 for submission of a donation application for the harbor tug Ex-HOGA (YTM 146), a National Historic Landmark. Ex-HOGA is located at Suisun Bay National Defense Reserve Fleet, Benicia, CA.

The donation of Naval vessels to qualified organizations is authorized by Title 10, section 7306 of the United States Code. A qualified organization is: (1) Any state, commonwealth, or possession of the United States or any municipal corporation or political subdivision thereof; (2) the District of Columbia; (3) any nonprofit entity organized pursuant to section 501(c)(3) of the Internal Revenue Code. By law, the transfer of a Navy ship for donation must occur at no cost to the United States Government. The successful applicant will be required to place Ex-HOGA on static display as a maritime museum/memorial and to maintain the vessel in a condition that is satisfactory to the Secretary of the Navy.

A qualified organization wishing to apply for Ex-HOGA must submit a comprehensive donation application to the Navy that addresses the following areas:

Financial Plan: The Financial Plan will estimate the start-up and operating costs, and provide detailed evidence of firm financing adequate to cover these costs. Start-up costs include towing, mooring (this includes but not limited to the cost of building, leasing, and improving dock and/or shore facilities, and dredging), maintenance, museum development, and meeting environmental requirements (including permitting fees and expenses). Operating costs are those associated with operating and maintaining the vessel as a museum and memorial, including rent, utilities, personnel, insurance, etc.

Firm financing means available funding to ensure the first five years of operation and future stability for long-term operation. This can include pledges, loans, gifts, bonds, funds on deposit at a financial institution, or any combination of the above. The applicant must also provide income projections from sources such as individual and group admissions, facility rental fees and gift shop revenues sufficient to cover the estimated operating expenses.

Technical: The technical area is comprised of four equally weighted plans: Towing, Mooring, Maintenance, and Environmental.

The Towing Plan describes how Ex-HOGA will be towed from the Suisun Bay National Defense Reserve Fleet in Benicia, CA, to the permanent display site proposed by the applicant. The Towing Plan must comply with all Navy Tow Manual requirements.

The Mooring Plan describes how Ex-HOGA will be secured at its permanent display site during normal and extreme weather conditions (including the 100-year storm event) to prevent damage to the ship, its mooring system, the pier, and surrounding facilities. The mooring location must be acceptable to the Navy, and not obstruct or interfere with navigation.

The Environmental Plan describes how the applicant will comply with all Local, State, Federal environmental and public health and safety regulations and permitting requirements. The applicant must also provide information necessary for the Navy to complete an environmental assessment of the donation as required by the National Environmental Policy Act (NEPA), including the impact of the donation on the natural and man-made environment, local infrastructure, and evaluation of the socio-economic consequences of the donation.

The Maintenance Plan must describe plans for long-term, short-term, and daily maintenance of the vessel, including ship preservation and maintenance schedule, underwater hull inspections, emergency response and fire/flood/intrusion control, pest control, security, periodic dry-docking, and qualifications of the maintenance team.

Curatorial: The applicant must describe in the Curatorial/Museum Plan the qualifications for a professional curator (and curator staff, if necessary). The plan should also establish a Collections Management Plan that describes how the museum will collect and manage artifacts, including a statement of purpose and description of access, authority, and collection management responsibilities.

The Curatorial Plan must also include a Historic Management Plan that describes how the museum will display the vessel and exhibits, including a description of the historical context of the ship, historical subject matter that will be displayed with the ship, and exhibit display plans.

If the Navy receives more than one application for donation of Ex-HOGA, a two-step evaluation process will be utilized. Phase I is a screening process to determine if applications meet minimum requirements. Phase II is a comparative analysis of the applications to determine the best-qualified applicant. Where two or more application meet minimum requirements, the Navy may consider additional criteria. This criterion may include submitting information on community support and benefit to the Navy.

Community Support: Includes evidence of local support such as letters of support from individuals, organizations, newspapers articles or editorials, letters of endorsement from the city and/or local Government, and written approval of the local Port Authority (this is essential). Evidence of regional support should also be provided. This includes letters of endorsement from adjacent communities and counties, cities or states. Also describe how the location of the ship will encourage public visitation and tourism, become an integral part of the community, and how the ship will enhance community development.

Benefit to the Navy: Describe how the donee may support Navy recruiting efforts. Other areas of benefit to the Navy include a connection between the Navy and the proposed berthing location, how veterans associations in the area are willing to support the vessel, how the donee will honor veterans' contributions to the United States, and how the exhibit will commemorate those contributions and showcase Naval traditions.

The relative importance for each of the areas that must be addressed in the donation application are as follows:

Financial and technical are the most important criteria and are equal in importance. Benefit to the Navy is next in importance. Curatorial and Community are less important than Benefit to the Navy and are equal in importance.

The Secretary of the Navy will make the final decision as to the donation of Ex-HOGA. After the decision to donate the ship is made, the Navy notifies Congress and Congress has 30 days of continuous session to consider the decision.

A detailed description of all donation application criteria and donation application information can be obtained from the Navy Donation Program Web Site at http://www.navsea.navy.mil/ndp/, or from the contact person listed below.

FOR FURTHER INFORMATION CONTACT: Commander, Naval Sea Systems Command, ATTN: Ms. Gloria Carvalho (PMS 333G), 1333 Isaac Hull Avenue SE., Stop 2701, Washington Navy Yard, DC 20376-2701, telephone (202) 781-0485.

Dated: December 7, 2001.
T. J. Welsh,
Lieutenant Commander, Judge Advocate General's Corps, U.S. Navy, Federal Register Liaison Officer.

[FR Doc. 01-30791 Filed 12-12-01; 8:45 am]

BILLING CODE 3810-FF-P